DEPARTMENT OF THE INTERIOR

Bureau of Land Management

[WY-050-1990-NJ]

Notice of Emergency Closure of Public Lands to Motorized Vehicle Use

AGENCY: Bureau of Land Management, Interior.

ACTION: Notice.

SUMMARY: Pursuant to 43 Code of Federal Regulations (CFR) subpart 8341.2(a), the Bureau of Land Management (BLM) announces the closure of certain BLM-administered public lands to all types of motor vehicle use to protect the desert yellowhead, a plant species and its critical habitat protected by listing under the Endangered Species Act (ESA).

This closure affects public lands located within, and adjacent to, the 360-acre designated critical habitat of the only known population of desert yellowhead (Yermo xanthocephalus). Under the ESA, the desert yellowhead is listed as “threatened.” Public access leading to, and within, the desert yellowhead and its critical habitat by nonmotorized means, such as by foot or horseback is permitted.

DATES: This closure will be effective March 16, 2005, and remain in effect until the threat to this desert yellowhead population and its critical habitat by motorized vehicles has ceased.

FOR FURTHER INFORMATION CONTACT: Ray Hanson, Outdoor Recreation Planner, Bureau of Land Management, 1335 Main Street, P.O. Box 589, Lander, Wyoming 82520. Mr. Hanson may also be contacted by telephone: (307) 332-8420.

SUPPLEMENTARY INFORMATION: The BLM Lander Field Office is responsible for management of public lands within Fremont, Natrona, Carbon, Sweetwater, and Hot Springs Counties. The management of these lands is addressed in the Lander Resource Management Plan (RMP) Record of Decision (ROD), which was signed in June 1987. Under the authority of the ESA, the RMP provides that no activities will be permitted in habitat for threatened and endangered species that would jeopardize the continued existence of such species. The RMP further provides that neither surface disturbing activities nor surface occupancy will be allowed in known threatened or endangered species habitat.

Because these Wyoming plants are the only known population in the world, the desert yellowhead (Yermo xanthocephalus) was listed by the United States Fish and Wildlife Service (USFWS) as “threatened” in 2002 and an area of 360 acres of critical habitat was designated. In 2004, the Lander Field Office prepared a biological assessment of the desert yellowhead for review by the USFWS. The USFWS completed a biological opinion for the desert yellowhead in 2005.

This Emergency Closure is necessary to protect the desert yellowhead and its critical habitat from threats posed by increased motorized vehicle use which could easily expand into the critical habitat of this sole population. Reasons for the closure include the effects of motorized vehicle use damaging plant populations and critical habitat of the desert yellowhead.

The following BLM-administered lands are included in this closure:

• The 360 acres of designated desert yellowhead critical habitat including the 10 acres presently occupied by the only known plant population.

• The designated two-track trails leading to the desert yellowhead's critical habitat.

A map of these areas will be posted with this notice at key locations near the closure area, as well as at the BLM's Lander Field Office, 1335 Main Street, Lander, Wyoming 82520.

Emergency closure orders may be implemented as provided in 43 CFR, subparts 8341.2(a) and 8364.1 (a, b, c, and d). Violations of this closure are punishable by a fine not to exceed $1000 and/or imprisonment not to exceed 12 months.

Persons who are administratively exempt from this closure include: any Federal, State, or local officer or employee acting within the scope of their duties, members of any organized rescue or fire-fighting force in performance of an official duty, and any person holding written authorization from the Bureau of Land Management.

Dated: May 5, 2005.
Alan L. Kesterke,
Associate State Director.

[FR Doc. 05-13766 Filed 7-11-05; 8:45 am]

BILLING CODE 4310-22-P